DEPARTMENT OF JUSTICE

Notice of Lodging of Proposed Consent Decree Under the Clean Air Act

On October 19, 2020, the Department of Justice lodged a proposed Consent Decree with the Court for the Western District of Texas, San Antonio Division in the lawsuit entitled United States of America v. Valero Energy Corporation, et al., Civil Action No. Case 5:20-cv-01237.

In its Complaint, the United States alleges Valero violated Section 211 of the Clean Air Act (“CAA”) and its implementing regulations at 40 CFR part 80, arising from the production and importation of gasoline and diesel fuel that did not meet certain fuel standards or programmatic requirements. The violations occurred at 11 refineries located in Louisiana, Texas, Tennessee, New Jersey, Arkansas, and Indiana and one import facility located in New York.

The proposed Consent Decree, which resolves all violations alleged in the Complaint, recovers a civil penalty of $2,850,000. Injunctive relief secured by the proposed Consent Decree requires development and implementation of a company-wide Fuels Management System to facilitate Valero's production of gasoline and diesel fuel in accordance with the CAA and the Fuels Regulations. The proposed Consent Decree also includes mitigation projects estimated to reduce volatile organic compound emissions from certain Valero facilities by 22.72 tons per year.

The publication of this notice opens a period for public comment on the Consent Decree. Comments should be addressed to the Assistant Attorney General, Environment and Natural Resources Division, and should refer to United States of America v. Valero Energy Corporation, et al., D.J. Ref. No. 90-5-2-1-111769. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $12.50 (0.25 cents per page reproduction cost) payable to the United States Treasury for a copy of the Consent Decree with appendices. For a paper copy without the appendices, the cost is $9.25.

Jeffrey Sands,
Assistant Section Chief, Environmental Enforcement Section, Environment and Natural Resources Division.

[FR Doc. 2020-23450 Filed 10-22-20; 8:45 am]

BILLING CODE 4410-15-P